DEPARTMENT OF LABOR

Employment and Training Administration

[TA-W-57,896]

Cranford Woodcarving, Inc. Including Workers Whose Wages Were Paid by Tri-State Employment Services, Inc., a Subsidiary of The McCrorie Group Plants 1, 4, and 7, Including On-Site Leased Workers of Express Personnel, Hickory, NC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on November 22, 2005, applicable to workers of Cranford Woodcarving, Inc., a subsidiary of The McCrorie Group, Plants 1, 4, and 7, including on-site leased workers of Express Personnel, Hickory, NC. The notice was published in the Federal Register on December 15, 2005 (70 FR 74367).

At the request of a company official, the Department reviewed the certification for workers of the subject firm. The workers are engaged in the production of wood components (e.g., carvings and turnings); they are not separately identifiable by articles produced.

Information provided by the company shows that Tri-State Employment Service, Inc., was contracted by Cranford Woodcarving, Inc., to provide payroll function and benefit services to workers on-site at the Hickory, NC location of Cranford Woodcarving, Inc.

Information also shows that all workers separated from employment at the subject firm had their wages reported under a separate unemployment insurance (UI) tax account for Tri-State Employment Service, Inc.

Based on these findings, the Department is amending this certification to include workers whose wages were reported by Tri-State Employment Service, Inc., at Cranford Woodcarving, Inc., a subsidiary of The McCrorie Group, Plants 1, 4, and 7, Hickory, NC.

The intent of the Department's certification is to include all workers of Cranford Woodcarving, Inc., were adversely affected by increased customer imports.

The amended notice applicable to TA-W-57,896 is hereby issued as follows:

All workers of Cranford Woodcarving, Inc. including workers whose wages were reported by Tri-State Employment Service, Inc., a subsidiary of the McCrorie Group, Plants 1, 4, and 7, including on-site leased workers of Express Personnel, Hickory, North Carolina, who became totally or partially separated from employment on or after September 2, 2004, through November 22, 2007, are eligible to apply for adjustment assistance under section 223 of the Trade Act of 1974 and are also eligible to apply for alternative trade adjustment assistance under Section 246 of the Trade Act of 1974.

Signed at Washington, DC, this 17th day of February 2006.
Elliott S. Kushner,
Certifying Officer, Division of Trade Adjustment Assistance.

[FR Doc. E6-2974 Filed 3-1-06; 8:45 am]

BILLING CODE 4510-30-P